DEPARTMENT OF JUSTICE

[Docket No. OIP 101]

Request for Information Regarding Federal Integrated Business Framework Standards

AGENCY: Office of Information Policy, Department of Justice.

ACTION: Request for public comment.

SUMMARY: The Department of Justice is seeking comments on the proposed Freedom of Information Act (FOIA) business standards that have been created in support of Federal shared services. This is the first set of FOIA standards being developed and input will be used in formulation of business standards for federal agency FOIA case management systems.

DATES: Electronic comments must be submitted, and written comments must be postmarked, on or before May 17, 2024.

ADDRESSES: You may submit comments, identified by Docket No. BSC-FOI-2024-0001, through the Federal eRulemaking Portal: www.regulations.gov. Follow the instructions for submitting comments.

• Postal Mail or Commercial Delivery: If you do not have internet access or electronic submission is not possible, you may mail written comments to Lindsay Steel, U.S. Department of Justice, Office of Information Policy, Chief of Compliance Staff, U.S. Department of Justice, 6th Floor, 441 G St. NW, Washington DC 20530. To ensure proper handling, please reference the agency name and Docket No. OIP 101 on your correspondence.

• Please note that comments submitted by email or fax may not be reviewed by DOJ.

FOR FURTHER INFORMATION CONTACT: Lindsay Steel, U.S. Department of Justice, Office of Information Policy, Chief of Compliance Staff, at 202-514-3642, or by email at DOJ.OIP.FOIA@usdoj.gov.

SUPPLEMENTARY INFORMATION:

I. Public Participation

Interested persons are invited to provide comments or feedback by submitting written data, views, or arguments on all aspects of this notice via one of the methods and by the deadline stated above.

Please note that all comments received are considered part of the public record and made available for public inspection at www.regulations.gov. Such information includes personally identifiable information (PII) (such as your name, address, etc.). Interested persons are not required to submit their PII in order to comment on this notice. However, any PII that is submitted is subject to being posted to the publicly accessible www.regulations.gov site without redaction.

Confidential business information clearly identified in the first paragraph of the comment as such will not be placed in the public docket file. The Department may withhold from public viewing information provided in comments that it determines may impact the privacy of an individual or is offensive. For additional information, please read the Privacy Act notice that is available via the link in the footer of http://www.regulations.gov. To inspect the agency's public docket file in person, you must make an appointment with the agency. Please see the For Further Information Contact paragraph above for agency contact information.

II. Discussion

A. Background

On April 26, 2019, the Office of Management and Budget published OMB Memorandum 19-16, Centralized Mission Support Capabilities for the Federal Government (available at https://www.whitehouse.gov/wp-content/uploads/2019/04/M-19-16.pdf). Mission support business standards, established and agreed to by agencies, using the Federal Integrated Business Framework (FIBF) website at https://ussm.gsa.gov/fibf/, enable the Federal Government to better coordinate on the decision-making needed to determine what technology or services can be adopted and commonly shared. These business standards are an essential first step towards agreement on outcomes, data, and cross-functional end-to-end processes that will drive economies of scale and leverage the Government's buying power. The business standards will be used as the foundation for common mission support services shared by Federal agencies.

The Department of Justice's Office of Information Policy (DOJ/OIP) serves as the FOIA business standards lead on the Business Standards Council (BSC). The goal of the FOIA business standards is to drive efficiency and consistency in FOIA administration across the Federal Government.

B. Intended Audience

The intended audience for this Request for Comment consists primarily of commercial vendors offering FOIA case management solutions, agencies procuring new solutions, and FOIA requesters, especially organizations that regularly submit FOIA requests to federal government agencies, although others are also welcome to comment.

Consistent with OMB Memorandum 19-16 and the FIBF, OIP is seeking public comment on these draft business standards for FOIA case management solutions, including comments on understandability of the standards, suggested changes, and usefulness of the draft standards. For more information on the FIBF and ongoing efforts to develop common FOIA business standards for FOIA administration across the Federal Government, please see https://ussm.gsa.gov/fibf-foia/.

The two FIBF standards of particular relevance to this Request for Information are the Federal Business Lifecycles standards and the Business Capability standards. The Federal Business Lifecycles consist of functional areas and activities. The FOIA functional areas include FOIA Management, Reporting and Proactive Disclosures; FOIA Request Intake; FOIA Request Processing and Response; FOIA Request Agency Referral, Consults, and Coordination; FOIA Request Fee Estimation and Processing; FOIA Administrative Appeal; and, FOIA Customer Service. Within these functional areas, the activities provide further breakdown of each category. The Business Capabilities define specific outcome-based business needs tied to each activity. For example, the FOIA Request Intake functional area and FOIA Request Submission activity includes a FOIA business capability for receiving a request from FOIA.gov via Application Programming Interface (API), which is tied to the statutory requirement at 5 U.S.C. 552(m) (2018).

The standards are designed to serve as a common reference defining business needs for FOIA case management systems that agencies and commercial vendors can draw from to develop solutions that best meet an agency's need. Agencies are not required to use case management systems that fulfill every element of the standards; rather, they can use the standards as building blocks to define their own requirements more efficiently. Vendors can use the standards to develop tools capable of meeting agencies' needs.

III. Questions for Public Comment

Public comments on the following questions will be used in formulation of the final business standards.

1. Do the draft business standards appropriately document the business processes covered?

2. Are the draft business standards easy to understand?

3. Will your organization be able to show how your solutions and/or services can meet these draft business standards?

4. What would you change about the draft business standards?

5. Is there anything missing?

Dated: March 12, 2024.
Bobak Talebian,
Director, Office of Information Policy.

[FR Doc. 2024-05663 Filed 3-15-24; 8:45 am]

BILLING CODE 4410-BE-P